DEPARTMENT OF AGRICULTURE

Animal and Plant Health Inspection Service

[Docket No. APHIS-2022-0062]

Notice of Request for Approval of an Information Collection; National Animal Health Monitoring System Backyard Animal Keeping 2023 Study

AGENCY: Animal and Plant Health Inspection Service, USDA.

ACTION: New information collection; comment request.

SUMMARY: In accordance with the Paperwork Reduction Act of 1995, this notice announces the Animal and Plant Health Inspection Service's intention to request approval of a new information collection associated with the National Animal Health Monitoring System Backyard Animal Keeping 2023 Study.

DATES: We will consider all comments that we receive on or before January 6, 2023.

ADDRESSES: You may submit comments by either of the following methods:

• Federal eRulemaking Portal: Go to www.regulations.gov. Enter APHIS-2022-0062 in the Search field. Select the Documents tab, then select the Comment button in the list of documents.

• Postal Mail/Commercial Delivery: Send your comment to Docket No. APHIS-2022-0062, Regulatory Analysis and Development, PPD, APHIS, Station 3A-03.8, 4700 River Road, Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the NAHMS Backyard Animal Keeping 2023 Study, contact Dr. Victoria Fields, Veterinary Medical Officer, Center for Epidemiology and Animal Health, VS, APHIS, 2150 Centre Avenue, Building B, Fort Collins, CO 80526; (970) 986-1514; email: victoria.fields@usda.gov. For more detailed information on the information collection process, contact Mr. Joseph Moxey, APHIS' Paperwork Reduction Act Coordinator; (301) 851-2483; email: joseph.moxey@usda.gov.

SUPPLEMENTARY INFORMATION:

Title: National Animal Health Monitoring System Backyard Animal Keeping 2023 Study.

OMB Control Number: 0579-XXXX.

Type of Request: Approval of a new information collection.

Abstract: Under the Animal Health Protection Act (7 U.S.C. 8301 et seq.), the Secretary of Agriculture is authorized to protect the health of livestock, poultry, and aquaculture populations in the United States by preventing the introduction and interstate spread of serious diseases and pests of livestock and for eradicating such diseases within the United States when feasible. This authority has been delegated to the Animal and Plant Health Inspection Service (APHIS).

In connection with this mission, APHIS operates the National Animal Health Monitoring System (NAHMS), which collects on a national basis statistically valid and scientifically sound data on the prevalence and economic importance of livestock, poultry, and aquaculture disease risk factors. NAHMS' studies have evolved into a collaborative government and industry initiative to help determine the most effective means of preventing and controlling diseases of livestock. APHIS is the only Federal agency responsible for collecting data on livestock and poultry health. Participation in any NAHMS study is voluntary and all data are confidential.

In 2010, NAHMS conducted the Poultry 2010 Study, which estimated prevalence of chicken ownership and attitudes toward urban chickens in four cities (Denver, Los Angeles, Miami, and New York). At that time, several cities throughout the United States were beginning to allow households to keep chickens, and the study evaluated this trend to gather data to be prepared in the event of a poultry disease outbreak. In 2021, the Centers for Disease Control and Prevention approached NAHMS with an interest in conducting a similar study given that there has been an apparent increase in backyard poultry ownership as well as an increase in Salmonella illnesses linked to contact with backyard poultry. In addition to updated information on percentage of households that own backyard chickens, since what was reported in the 2010 study, stakeholders have expressed interest in obtaining baseline information on the percentage of households that own any poultry, goats, pigs, and rabbits, and some basic information on how respondents provide care for these species since there is little information on this population of animals. Unless chickens are specifically referred to below, reference to poultry includes chickens, ducks, geese, turkeys, or gamebirds for the purposes of this study.

This study will consist of two components with five objectives as documented below. Objectives 1 through 3 will be answered by a survey (“national survey”) which will obtain national estimates of ownership of poultry, goats, pigs, and rabbits, and describe baseline information on ownership practices. For the fourth objective, a survey in two cities (“city survey”) will be performed to estimate the prevalence of chicken, goat, pig, and rabbit ownership in two of the four cities previously studied in the NAHMS Poultry 2010 study, as well as describe respondents' beliefs about chicken ownership. The fifth objective will be carried out in conjunction with Colorado State University to learn more about food security status and backyard animal keeping.

The collection will support the following objectives:

(1) Obtain national estimates of the percentage of households that own poultry, goats, pigs, and rabbits in urban and non-urban areas of the United States.

(2) For each species included in the study, describe animal management practices such as information sources owners use to learn about animal health, access to veterinary care, length of ownership, and biosecurity practices including those relevant to antimicrobial stewardship.

(3) For households that both own and do not own poultry, goats, pigs, and rabbits, describe opinions of backyard and urban ownership of chickens and, for non-owners only, describe any contact with live poultry and intention to own any one of these species of interest in the future.

(4) Estimate the prevalence of chicken, goat, pig, and rabbit ownership in two of the cities surveyed on urban chicken ownership in 2012 (Denver and Miami), and describe respondents' beliefs about chicken ownership to determine changes in prevalence and beliefs between 2012 and 2023.

(5) Conduct a preliminary evaluation of the relationship between food security status and backyard animal keeping.

Respondent information will be protected by ensuring that no identifying information is linked to the data.

We are asking the Office of Management and Budget (OMB) to approve our use of this information collection activity for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.21 hours per response.

Respondents: Private individuals.

Estimated annual number of respondents: 112,745.

Estimated annual number of responses per respondent: 0.17.

Estimated annual number of responses: 18,770.

Estimated total annual burden on respondents: 4,074 hours. (Due to averaging, the total annual burden hours may not equal the product of the annual number of responses multiplied by the reporting burden per response.)

All responses to this notice will be summarized and included in the request for OMB approval. All comments will also become a matter of public record.

Done in Washington, DC, this 2nd day of November 2022.
Anthony Shea,
Administrator, Animal and Plant Health Inspection Service.

[FR Doc. 2022-24206 Filed 11-4-22; 8:45 am]

BILLING CODE 3410-34-P